DEPARTMENT OF COMMERCE

National Oceanic and Atmospheric Administration

RIN 0648-XY18

Takes of Marine Mammals Incidental to Specified Activities; Construction of the Knik Arm Crossing, Alaska

AGENCY: National Marine Fisheries Service (NMFS), National Oceanic and Atmospheric Administration (NOAA), Commerce.

ACTION: Notice; receipt of application for letter of authorization; request for comments and information.

SUMMARY: NMFS has received a request from the Knik Arm Bridge Toll Authority (KABATA), in coordination with the Department of Transportation Federal Highways Administration (FHWA), for authorization to take marine mammals incidental to construction of a bridge across Knik Arm, named the Knik Arm Crossing, Alaska, over the course of five construction seasons; approximately spring 2013 through autumn 2017. Pursuant to the Marine Mammal Protection Act (MMPA), NMFS is announcing receipt of the KABATA's application and request for the development and implementation of regulations governing the incidental taking of marine mammals and inviting information, suggestions, and comments on the KABATA's application and request. NMFS has reviewed KABATA's request, including the information in its application, and determined that it is adequate and complete in accordance with 50 CFR 216.104(b)(1).

DATES: Comments and information must be received no later than October 8, 2010.

ADDRESSES: Comments on the application should be addressed to P. Michael Payne, Chief, Permits, Conservation and Education Division, Office of Protected Resources, National Marine Fisheries Service, 1315 East-West Highway, Silver Spring, MD 20910-3225. The mailbox address for providing email comments is PR1.0648-XY18@noaa.gov. Comments sent via e-mail, including all attachments, must not exceed a 10-megabyte file size.

FOR FURTHER INFORMATION CONTACT: Jaclyn Daly, Office of Protected Resources, NMFS, (301) 713-2289, ext. 151.

SUPPLEMENTARY INFORMATION:

Availability

A copy of KABATA's application and request may be obtained by writing to the address specified above (see ADDRESSES), telephoning the contact listed above (see FOR FURTHER INFORMATION CONTACT), or visiting the internet at: http://www.nmfs.noaa.gov/pr/permits/incidental.htm#applications.

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have a negligible impact on the species or stock(s), will not have an unmitigable adverse impact on the availability of the species or stock(s) for certain subsistence uses, and that the permissible methods of taking and requirements pertaining to the mitigation, monitoring and reporting of such taking are set forth.

NMFS has defined “negligible impact” in 50 CFR 216.103 as “an impact resulting from the specified activity that cannot be reasonably expected to, and is not reasonably likely to, adversely affect the species or stock through effects on annual rates of recruitment or survival."

Except with respect to certain activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

On August 20, 2010, NMFS received a complete application from KABATA and FHWA requesting authorization to take of three species of marine mammals incidental to construction of a bridge, the Knik Arm Crossing (KAC), in Upper Cook Inlet, Alaska. The proposed construction is anticipated to take four construction seasons (approximately April-November, annually); however, given unforeseen construction delays, KABATA has requested regulations to be effective for the period of five seasons from 2013 through 2017. Marine mammals, particularly Cook Inlet beluga whales (Delphinapterus leucas), would be potentially exposed to various construction-related operations, including noise from pile driving, and the presence of constructed-related vessels. Because construction of the KAC has the potential to result in the incidental take marine mammals present within the action area, KABATA requests authorization to take, by Level B harassment, Cook Inlet beluga whales, harbor seals (Phoca vitulina), harbor porpoise (Phocoena phocoena). KABATA has not requested authorization for incidental take by injury (Level A harassment), serious injury or mortality.

Specified Activities

KABATA is proposing to construct a new bridge spanning Knik Arm and develop approaches on the Matanuska-Susistna Borough (Mat-Su) side of Knik Arm and the Municipality of Anchorage to connect the KAC to existing transportation infrastructure. In summary, the KAC would connect the Mat-Su approach to the Anchorage approach by way of an 8,200-foot (2.5 km) long, pier supported bridge. The bridge design calls for 29 permanent piers for the substructure, each consisting of four permanent, large diameter drilled shafts. The drilled shafts would be connected to the bridge superstructure columns through use of concrete footings. In addition, KABATA intends to install temporary moorage and temporary construction docks within Knik Arm waters and develop land-based approaches on both sides of the Arm that will run adjacent to the water's edge to varying degrees. A full description of the activities proposed by KABATA is described in the application.

Information Solicited

Interested persons may submit information, suggestions, and comments concerning KABATA's request (see ADDRESSES). All information, suggestions, and comments related to KABATA's request and NMFS' potential development and implementation of regulations governing the incidental taking of marine mammals by KABATA in Knik Arm, Alaska, will be considered by NMFS in developing, if appropriate, regulations governing the issuance of letters of authorization.

Dated: September 1, 2010.
Helen M. Golde,
Deputy Director, Office of Protected Resources, National Marine Fisheries Service.

[FR Doc. 2010-22391 Filed 9-7-10; 8:45 am]

BILLING CODE 3510-22-S